DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301) 443-1129.

The following request has been submitted to the OMB for review under the Paperwork Reduction Act of 1995:

Proposed Project: Ryan White Comprehensive AIDS Resources Emergency (CARE) Act: CARE Act Data Report (CADR) Form: (OMB No. 0915-0253)—Revision

The CADR form was created in 1999 by HRSA's HIV/AIDS Bureau. It is designed to collect information from grantees and their subcontracted service providers, who are funded under Titles I, II, III, and IV of the Ryan White CARE Act of 1990, as amended by the Ryan White CARE Amendments of 1996 and 2000 (codified under Title XXVI of the Public Health Service Act). All Titles of the CARE Act specify HRSA's responsibilities in the administration of grant funds, the allocation of funds, the evaluation of programs for the population served, and the improvement of the quantity and quality of care. Accurate records of the providers receiving CARE Act funding, the services provided, and the clients served continue to be critical to the implementation of the legislation and thus are necessary for HRSA to fulfill its responsibilities. CARE Act grantees are required to report aggregate data to HRSA annually. The CADR form is used by grantees and their subcontracted service providers to report data on seven different areas: service provider information, client information, counseling and testing services, medical services and other services provided, clients served, demographic information, and the Health Insurance Program. The primary purposes of the CADR are to: (1) Characterize the organizations from which clients receive services; (2) provide information on the number and characteristics of clients who receive CARE Act services; and, (3) enable HAB to describe the type and amount of services a client receives. In addition to meeting the goal of accountability to the Congress, clients, advocacy groups, and the general public, information collected on the CADR is critical for HRSA, State, and local grantees, and individual providers to assess the status of existing HIV-related service delivery systems.

The burden estimate for grantees is as follows:

Grantees funded by Title | Number of respondents | Responses per respondent | Total responses | Hours per response | Total burden hours
Title I only | 51 | 1 | 51 | 40 | 2,040
Title II only | 59 | 1 | 59 | 40 | 2,360
Title III only | 365 | 1 | 365 | 20 | 7,300
Title IV only | 90 | 1 | 90 | 20 | 1,800
Subtotal | 565 |  |  |  | 13,500

The burden estimate for service providers is as follows:

Service providers by grantee funding | Number of respondents | Responses per respondent | Total responses | Hours per response | Total burden hours
Title I only | 976 | 1 | 976 | 26 | 25,376
Title II only | 857 | 1 | 857 | 26 | 22,282
Title III only | 166 | 1 | 166 | 44 | 7,304
Title IV only | 122 | 1 | 122 | 42 | 5,124
Multiple Titles | 681 | 1 | 681 | 50 | 34,050
Subtotal | 2,802 | 1 |  |  | 94,136
Total | 3,367 |  |  |  | 107,636

Written comments and recommendations concerning the proposed information collection should be sent within 30 days of this notice to: Desk Officer, Health Resources and Services Administration, Human Resources and Housing Branch, Office of Management and Budget, New Executive Office Building, Room 10235, Washington, DC 20503.

Dated: September 8, 2004.
Tina M. Cheatham,
Director, Division of Policy Review and Coordination.

[FR Doc. 04-20620 Filed 9-13-04; 8:45 am]

BILLING CODE 4165-15-P